DEPARTMENT OF HEALTH AND HUMAN SERVICES

Health Resources and Services Administration

Meeting of the Council on Graduate Medical Education

AGENCY: Health Resources and Service Administration (HRSA), Department of Health and Human Services (HHS).

ACTION: Notice.

SUMMARY: The Council on Graduate Medical Education (COGME) has scheduled a public meeting. Information about COGME and the agenda for this meeting can be found on the COGME website at https://www.hrsa.gov/advisory-committees/graduate-medical-edu/index.html.

DATES: June 5, 2019, 8:30 a.m.-5:00 p.m. and June 6, 2019, 8:30 a.m.-2:00 p.m. ET.

ADDRESSES: This meeting will be held in-person and through teleconference and webinar. The address for the meeting is 5600 Fishers Lane, Rockville, Maryland 20857.

• Conference call-in number is: 1-888-455-0640.

• Passcode is: HRSA COUNCIL (voice response).

• Webinar link is: https://hrsa.connectsolutions.com/cogme.

FOR FURTHER INFORMATION CONTACT: Kennita R. Carter, MD, Designated Federal Official (DFO), Division of Medicine and Dentistry, Bureau of Health Workforce, HRSA, 5600 Fishers Lane, 15N-116, Rockville, Maryland 20857; 301-945-3505; or KCarter@hrsa.gov.

SUPPLEMENTARY INFORMATION: COGME makes recommendations to the Secretary of HHS (Secretary) and Congress on policy, program development, and other matters of significance as specified by section 762 of Title VII of the Public Health Service (PHS) Act. Issues addressed by COGME include (1) the nature and financing of medical education training; (2) the development of performance measures and longitudinal evaluation methods of medical education programs; (3) foreign medical school graduates; (4) the supply and distribution of the physician workforce in the United States, including any projected shortages or excesses; (5) deficiencies in databases of the supply and distribution of the physician workforce and postgraduate programs for training physicians; and (6) appropriation levels for certain programs under Title VII of the PHS Act. Additionally, COGME encourages entities providing graduate medical education to conduct activities to voluntarily achieve the recommendations of the council. COGME submits reports to the Secretary of HHS, the Senate Committee on Health, Education, Labor and Pensions, and the House of Representatives Committee on Energy and Commerce.

During the June 2019, meeting, COGME will discuss the topic of rural health in relation to workforce development and graduate medical education financing. Agenda items are subject to change as priorities dictate. Refer to the COGME website for any updated information concerning the meeting. The meeting agenda will be available on the COGME website at least 14 calendar days prior to the meeting.

Members of the public will have the opportunity to provide comments. Public participants may submit written statements in advance of the scheduled meeting. Oral comments will be honored in the order they are requested and may be limited as time allows. Requests to provide written statements or make oral comments to COGME should be sent to Kennita R. Carter, DFO, using the contact information above at least three business days prior to the meeting.

Individuals who plan to attend and need special assistance or another reasonable accommodation should notify Kennita R. Carter, DFO, using the contact information listed above at least 10 business days prior to the meeting. Since this meeting occurs in a federal government building, attendees must go through a security check to enter the building. Non-U.S. Citizen attendees must notify HRSA of their planned attendance at least 20 business days prior to the meeting in order to facilitate their entry into the building. All attendees are required to present government-issued identification prior to entry.

Amy P. McNulty,
Acting Director, Division of the Executive Secretariat.

[FR Doc. 2019-02317 Filed 2-13-19; 8:45 am]

BILLING CODE 4165-15-P